DEPARTMENT OF AGRICULTURE

Privacty Act: System of Records

AGENCY: Office of the Secretary, Agriculture.

ACTION: Notice of proposed revision of Privacy Act System of Records.

SUMMARY: In accordance with the Privacy Act 5 U.S.C. 552(a)(e)(11), the United States Department of Agriculture (“USDA”) Office of Inspector General (“OIG”) proposes to revise two of its systems of records, USDA/OIG-3: Investigative Files and Automated Investigative Indices System and USDA/OIG-4: IG Hotline Complaint Records. These systems of records were last published in the Federal Register on November 17, 1997, on pages 61262-61266, 62 FR 61262, et seq.

EFFECTIVE DATE: This notice will be adopted without further publication in the Federal Register on June 27, 2005, unless modified by a subsequent notice to incorporate comments received from the public. Although the Privacy Act requires only that the portion of the system which describes the “routine uses” of the system be published for comment, USDA invites comment on all portions of this notice. Comments must be received by the contact person listed below on or before the proposed routine uses will become effective as proposed without further notice on May 26, 2005.

FOR FURTHER INFORMATION CONTACT: David Gray, Counsel to the Inspector General, Office of Inspector General, U.S. Department of Agriculture, 1400 Independence Avenue, SW., Room 41-W, Washington, DC 20250-2308, telephone: (202) 720-9110, Facsimile: (202) 690-1528, e-mail: drgray@oig.usda.gov.

SUPPLEMENTARY INFORMATION: The OIG proposes revising existing routine use by deleting one half of one sentence of an existing routine use to avoid referring to another Agency's Regulations and to add two routine uses to the routine uses currently applicable to OIG's systems of records to permit disclosure under two systems of records. The first addition is for purposes of internal and external peer reviews of the OIG's Office of Investigations specifically relating to the systems of USDA/OIG-3: Investigative Files and Automated Investigative Indices System, and USDA/OIG-4: IG Hotline Complaint Records. The second routine use also applies to these same systems of records to allow disclosure of these records to the President's Council on Integrity and Efficiency (PCIE) and other Federal agencies, when these entities conduct an audit or investigation pursuant to Executive Order 12993.

The current language of routine use numbered 13 in both systems of records is as follows:

(13) Relevant information from a system of records may be disclosed to the news media and general public where there exists a legitimate public interest, e.g., to assist in the location of fugitives, to provide notification of arrests, where necessary for protection from imminent threat of life or property, or in accordance with guidelines set out by the Department of Justice in 28 CFR 50.2.

The proposed revision deletes the last part of the sentence, to end the sentence after the word “property.” Thus, the end of the sentence that refers to the Department of Justice guidelines and its regulatory citation is deleted. The revised routine use will then read as follows:

(13) Relevant information from a system of records may be disclosed to the news media and general public where there exists a legitimate public interest, e.g., to assist in the location of fugitives, to provide notification of arrests, or where necessary for protection from imminent threat of life or property.

The first added routine use is proposed to reflect an amendment to the Inspector General Act of 1978, pursuant to VIII, Subtitle B, Section 812(7) of the Department of Homeland Security Act of 2002, which reads as follows: “To ensure the proper exercise of the law enforcement powers authorized by this subsection, the OIG described under paragraph (3) shall, not later than 180 days after the date of enactment of this subsection, collectively enter into a memorandum of understanding to establish an external review process for ensuring that adequate internal safeguards and management procedures continue to exist within each Office and within any Office that later receives an authorization under paragraph (2). The review process shall be established in consultation with the Attorney General, who shall be provided with a copy of the memorandum of understanding that established the review process. Under the review process, the exercise of the law enforcement powers by each Office of Inspector General shall be reviewed periodically by another Office of Inspector General or by a committee of Inspectors General. The results of each review shall be communicated in writing to the applicable Inspector General and to the Attorney General.”

The second added routine use is proposed to enable an OIG to assist other OIGs with internal audits or investigations required by the PCIE under Executive Order 12993, but which cannot or should not be performed by the staff of a particular OIG that would normally conduct the investigation, and to allow reports to be reviewed by the PCIE regarding actions taken with respect to these investigations. This routine use will allow the OIG to conduct assigned audits or investigations under Executive Order 12993 and to report its findings, recommendations and actions taken to the PCIE. It will also allow the release of information to other agencies conducting internal audits or investigations of the OIG.

The text of the addition of the added routine uses (to be numbered 14 and 15) to systems USDA/OIG-3 and USDA/OIG-4 will read as follows:

(14) A record may be disclosed to any official charged with the responsibility to conduct qualitative assessment reviews or peer reviews of internal safeguards and management procedures employed in investigative operations. This disclosure category includes members of the President's Council on Integrity and Efficiency and officials and administrative staff within their investigative chain of command, as well as authorized officials of the Department of Justice and the Federal Bureau of Investigation.

(15) In the event that these records respond to an audit, investigation or review, which is conducted pursuant to an authorizing law, rule or regulation, and in particular those conducted at the request of the President's Council on Integrity and Efficiency (“PCIE”) pursuant to Executive Order 12993, the records may be disclosed to the PCIE and other Federal agencies, as necessary.

All other aspects of OIG's systems of records remain unchanged and are as published, other than systems of records' locations, which are updated as set forth in Attachment A. A “Report on New System,” required by 5 U.S.C. 552a(r), as implemented by OMB Circular A-130, was sent to the Chairman, Committee on Homeland Security and Governmental Affairs, United States Senate; the Chairman, Committee on Government Reform, House of Representatives; and the Administrator, Office of Information and Regulatory Affairs, Office of Management and Budget on April 19, 2005.

Dated: April 19, 2005.
Mike Johanns,
Secretary of Agriculture.

USDA/OIG-3

SYSTEM NAME:

Investigative Files and Automated Investigative Indices Systems, USDA/OIG.

* * * * *

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

* * * * *

(13) Relevant information from a system of records may be disclosed to the news media and general public where there exists a legitimate public interest, e.g., to assist in the location of fugitives, to provide notification of arrests, or where necessary for protection from imminent threat of life or property.

(14) A record may be disclosed to any official charged with the responsibility to conduct qualitative assessment reviews or peer reviews of internal safeguards and management procedures employed in investigative operations. This disclosure category includes members of the President's Council on Integrity and Efficiency and officials and administrative staff within their investigative chain of command, as well as authorized officials of the Department of Justice and the Federal Bureau of Investigation.

(15) In the event that these records respond to an audit, investigation or review, which is conducted pursuant to an authorizing law, rule or regulation, and in particular those conducted at the request of the President's Council on Integrity and Efficiency (“PCIE”) pursuant to Executive Order 12993, the records may be disclosed to the PCIE and other Federal agencies, as necessary.

* * * * *

USDA/OIG-4

SYSTEM NAME:

OIG Hotline Complaint Records, USDA/OIG.

In addition to those disclosures generally permitted under subsection (b) of the Privacy Act of 1974, 5 U.S.C. 552a(b), records may also be disclosed routinely to other users under the following circumstances:

* * * * *

(13) Relevant information from a system of records may be disclosed to the news media and general public where there exists a legitimate public interest, e.g., to assist in the location of fugitives, to provide notification of arrests, or where necessary for protection from imminent threat of life or property.

(14) A record may be disclosed to any official charged with the responsibility to conduct qualitative assessment reviews or peer reviews of internal safeguards and management procedures employed in investigative operations. This disclosure category includes members of the President's Council on Integrity and Efficiency and officials and administrative staff within their investigative chain of command, as well as authorized officials of the Department of Justice and the Federal Bureau of Investigation.

(15) In the event that these records respond to an audit, investigation or review, which is conducted pursuant to an authorizing law, rule or regulation, and in particular those conducted at the request of the President's Council on Integrity and Efficiency (“PCIE”) pursuant to Executive Order 12993, the records may be disclosed to the PCIE and other Federal agencies, as necessary.

SYSTEM LOCATION:

In the headquarters offices of the U.S. Department of Agriculture (USDA), Office of Inspector General (OIG) and in the Jamie L. Whitten Federal Building, 1400 Independence Avenue, SW, Washington, DC 20250, and in the following OIG regional offices and sub offices, as listed in Attachment A.

Attachment A

OIG Regional Offices

Northeast Region/Investigations and Northeast Region/Audit, 5601 Sunnyside Avenue, Suite 2-2230, Beltsville, Maryland 20705-5300

Southeast Region, 401 W. Peachtree Street NW., Room 2329 (Investigations), Room 2328 (Audit), Atlanta, Georgia 30308

Midwest Region, 111 N. Canal Street, Suite 1130, Chicago, Illinois 60606-7295

Southwest Region, 101 South Main, Room 311 (Investigations), Room 324 (Audit), Temple, Texas 76501

Great Plains Region, 8930 Ward Parkway, Suite 3016, Kansas City, Missouri 64114

Western Region, 75 Hawthorne Street, Suite 200, San Francisco, California 94105-3920

OIG/Audit Sub Offices

Mercer Corporate Park, 310 Corporate Boulevard, Robbinsville, New Jersey 08691-1598

One Credit Union Place, Suite 350, Harrisburg, Pennsylvania 17110-2992

26 Federal Plaza, Room 1415, New York, New York 10278

IBM Building, Suite 600, 654 Munoz Rivera Avenue, Hato Rey, Puerto Rico 00918-4118

3101 Park Center Drive, Suite 1128, Alexandria, Virginia 22302

3008 NW. 13th Street, Suite B, Gainesville, Florida 32609

111 East Capitol Street, Suite 425, Jackson, Mississippi 39201

233 Cumberland Bend, Room 118, Nashville, Tennessee 37228

4407 Bland Road, Room 100, Raleigh, North Carolina 27609

299 East Broward Boulevard, Federal Building, Room 410, Box 14, Ft. Lauderdale, Florida 33301

200 N. High Street, Room 346, Columbus, Ohio 43215-2408

375 Jackson Street, Suite 620, St. Paul, Minnesota 55101-1850

3001 Coolidge Road, Suite 150, East Lansing, Michigan 48823-6321

1114 Commerce Street, Santa Fe Building, Suite 202, Dallas, Texas 75242

100 Centennial Mall North, Room 276, Lincoln, Nebraska 68508

13800 Old Gentilly Road, Building 350, Post J4, New Orleans, Louisiana 70129

2150 Centre Avenue, Building A, Suite 138, Ft. Collins, Colorado 80526-1891

4300 Goodfellow Boulevard, Building 104F, 2nd Floor, Pole L2, St. Louis, Missouri 63120

Edith Green Wendell Wyatt Federal Office Building, 1220 SW. Third Avenue, Room 1640, Portland, Oregon 97204-2893

430 ‘G’ Street, Davis, California 95616-4166

OIG/Investigations Sub Offices

26 Federal Plaza, Room 1409, New York, New York 10278-0004

54 Stiles Road, Suite 108, Salem, New Hampshire 03079

Bishop Curley Building, 421 S. Warren Street, Room 201, Syracuse, New York 13201

660 American Avenue, Suite 201, King of Prussia, Pennsylvania 19406-4032

4407 Bland Road, Room 110, Raleigh, North Carolina 27609

Federal Building, 400 N. 8th Street, Room 526, Richmond, Virginia 23240-1001

233 Cumberland Bend, Room 118, Nashville, Tennessee 37228

Robert Vance Federal Building, Room 414, 1800 5th Avenue, Birmingham, Alabama 35203-3702

3008 NW. 13th Street, Suite A, Gainesville, Florida 32609

299 East Broward Boulevard, Federal Building, Room 410, Box 14, Ft. Lauderdale, Florida 33301

200 North High Street, Room 350, Columbus, Ohio 43215-2408

3001 Coolidge Road, Suite 150, East Lansing, Michigan 48823-6321

6039 Lakeside Boulevard, Indianapolis, Indiana 46278-1989

U.S. Courthouse Building, 601 West Broadway, Room 617, Louisville, Kentucky 40202

1350 Euclid Avenue, Room 280, Cleveland, Ohio 44115-1815

1114 Commerce Street, Santa Fe Building, Suite 202, Dallas, Texas 75242

650 North Sam Houston Parkway East, Room 540, Houston, Texas 77060

700 West Capitol, Room 2528, Little Rock, Arkansas 72201

423 Canal Street, Room 331, New Orleans, Louisiana 70130

215 Dean A. McGee Street, Room 416, Oklahoma City, Oklahoma 73102

111 East Capitol Street, Suite 425, Jackson, Mississippi 39201

522 N. Central Avenue, Room 202, Phoenix, Arizona 85004

300 E. Main Street, Room 501, El Paso, Texas 79901

12136 W. Bayaud Avenue, Suite 210, Lakewood, Colorado 80228-2115

911 Washington Avenue, Suite 410, St. Louis, Missouri 63101

210 Walnut Street, Suite 573, Des Moines, Iowa 50309

140 N. Phillips Avenue, Suite 320, Sioux Falls, South Dakota 57101

100 Centennial Mall North, Room 282, Lincoln, Nebraska 68508

304 East Broadway, Room 336, Bismarck, North Dakota 58501

375 Jackson Street, Suite 620, St. Paul, Minnesota 55101-1850

1000 Second Avenue, Suite 1950, Seattle, Washington 98104

21660 E. Copley Drive, Suite 370, Diamond Bar, California 91765

300 Ala Moana Boulevard, Room S153, Honolulu, Hawaii 96850-0001

430 ‘G’ Street, Davis, California 95616-4166

Edith Green Wendell Wyatt Federal Office Building, 1220 SW Third Avenue, Room 1640, Portland, Oregon 97204-2893

1130 ‘O’ Street, Room 4201-E, Fresno, California 93721-2236

610 West Ash Street, Suite 707, San Diego, California 92101-3346

[FR Doc. 05-8221 Filed 4-25-05; 8:45 am]

BILLING CODE 3410-23-P